DEPARTMENT OF TRANSPORTATION

Federal Railroad Administration

[Docket Number FRA-1999-6364]

Northeast Illinois Railroad Corporation; Public Hearing

The Northeast Illinois Railroad Corporation (Metra) petitioned the Federal Railroad Administration (FRA) seeking a permanent waiver of compliance with the Passenger Equipment Safety Standards, Title 49, Code of Federal Regulations (CFR), Part 238.303, which requires exterior calendar day inspection, and 238.313, which requires a Class I brake test be performed by a qualified maintenance person. Metra requests that on weekends (Saturday and Sunday) and holidays these tests be performed by a qualified person, not a qualified maintenance person as required in the Passenger Equipment Safety Standards. Metra states that in many cases, the qualified person can be a member of the train crew.

This proceeding is identified as FRA-1999-6364. FRA issued a public notice seeking comments of interested parties and conducted a field investigation in this matter. After examining the carrier's proposal, letters of protest, and field report, FRA has determined that a public hearing is necessary before a final decision is made on this proposal.

Accordingly, a public hearing is hereby set for 9:30 a.m. on Tuesday, May 16, 2000, at the John Kluczynski Federal Building, Room 240, at 230 South Dearborn Street, Chicago, Illinois. Interested parties are invited to present oral statements at the hearing. The hearing will be an informal one and will be conducted in accordance with Rule 25 of the FRA Rules of Practice (49 CFR Part 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, if necessary for the conduct of the hearing, will be announced at the hearing.

Issued in Washington, D.C. on March 29, 2000.
Grady C. Cothen, Jr.,
Deputy Associate Administrator for Safety Standards and Program Development.

[FR Doc. 00-8167 Filed 4-3-00; 8:45 am]

BILLING CODE 4910-06-P